DEPARTMENT OF THE INTERIOR

Bureau of Indian Affairs

Indian Gaming

AGENCY: Bureau of Indian Affairs, Interior.

ACTION: Notice of Approved Tribal—State Class III Gaming Compact.

SUMMARY: This Notice Publishes an Approval of the Fourth Amendment for the Tribal-State Compact for the Regulation of Class III Gaming between the Nooksack Indian Tribe and the State of Washington.

DATES: Effective Date: December 15, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of Fourth Amendment to the Tribal-State compacts for the purpose of engaging in class III gaming activities on Indian lands. This Fourth Amendment expands the number of gaming facilities that the tribe is allowed to operate and allows for electronic gaming devices. The Acting Principal Deputy Assistant Secretary—Indian Affairs, Department of the Interior, through his delegated authority, is publishing notice that the Fourth Amendment to the Tribal-State compact between the Nooksack Indian Tribe and the State of Washington is hereby approved and in effect.

Dated: December 5, 2005.
Michael D. Olsen,
Acting Principal Deputy Assistant Secretary—Indian Affairs.

[FR Doc. E5-7394 Filed 12-14-05; 8:45 am]

BILLING CODE 4310-4N-P